POSTAL SERVICE

Product Change—Priority Mail and Parcel Select Negotiated Service Agreement

AGENCY: Postal Service™.

ACTION: Notice.

SUMMARY: The Postal Service gives notice of filing a request with the Postal Regulatory Commission to add a domestic shipping services contract to the list of Negotiated Service Agreements in the Mail Classification Schedule's Competitive Products List.

DATES: Date of required notice: December 30, 2022.

FOR FURTHER INFORMATION CONTACT: Sean C. Robinson, 202-268-8405.

SUPPLEMENTARY INFORMATION: The United States Postal Service® hereby gives notice that, pursuant to 39 U.S.C. 3642 and 3632(b)(3), on December 23, 2022, it filed with the Postal Regulatory Commission a Request of the United States Postal Service to Add Priority Mail & Parcel Select Contract 7 to Competitive Product List. Documents are available at www.prc.gov, Docket Nos. MC2023-98, CP2023-99.

Sarah Sullivan,
Attorney, Ethics & Legal Compliance.

[FR Doc. 2022-28419 Filed 12-29-22; 8:45 am]

BILLING CODE 7710-12-P